DEPARTMENT OF EDUCATION

Office of Vocational and Adult Education (OVAE)—Tech-Prep Demonstration Program

ACTION: Notice inviting application for new awards for fiscal year 2005; correction.

SUMMARY: On April 14, 2005, we published in the Federal Register (70 FR 19741) a notice inviting applications for new awards under OVAE's Tech-Prep Demonstration Program (TPDP).

On page 19743, second column, the Deadline for Transmittal of Applications is corrected to read “May 24, 2005.”

FOR FURTHER INFORMATION CONTACT: Laura Messenger, U.S. Department of Education, 400 Maryland Avenue, SW., room 11028, Potomac Center Plaza, Washington, DC 20202-7241. Telephone: (202) 245-7840 or by e-mail: laura.messenger@ed.gov.

If you use a telecommunications device for the deaf (TDD), you may call the Federal Relay Service (FRS) at 1-800-877-8339.

Individuals with disabilities may obtain this document in an alternative format (e.g., Braille, large print, audiotape, or computer diskette) on request to the program contact person listed in this section.

Electronic Access to this Document: You may view this document, as well as all other documents of this Department published in the Federal Register, in text or Adobe Portable Document Format (PDF) on the Internet at the following site: http://www.ed.goc/news/fedregister.

To use PDF you must have the Adobe Acrobat Reader, which is available free at this site. If you have questions about using PDF, call the U.S. Government Printing Office (GPO) toll free at 1-888-293-6498, or in the Washington, DC area at (202) 512-1530.

Note: The official version of this document is the document published in the Federal Register. Free Internet access to the official edition of the Federal Register and the Code of Federal Regulations is available on GPO Access at: http://www.gpoaccess.gov/nara/index.html.

Dated: April 18, 2005.
Susan Sclafani,
Assistant Secretary for Vocational and Adult Education.

[FR Doc. 05-8038 Filed 4-20-05; 8:45 am]

BILLING CODE 4000-01-P